ENVIRONMENTAL PROTECTION AGENCY

[EPA-HQ-OAR-2012-0103; FRL-9936-39-OEI]

Information Collection Request Submitted to OMB for Review and Approval; Comment Request; Diesel Emissions Reduction Act (DERA) Rebate Program (Renewal)

AGENCY: Environmental Protection Agency (EPA).

ACTION: Notice.

SUMMARY: The Environmental Protection Agency has submitted an information collection request (ICR), “Diesel Emissions Reduction Act (DERA) Rebate Program” (EPA ICR No. 2461.02, OMB Control No. 2060-0686) to the Office of Management and Budget (OMB) for review and approval in accordance with the Paperwork Reduction Act (44 U.S.C. 3501 et seq.). This is a proposed extension of the ICR, which is currently approved through October 31, 2015. Public comments were previously requested via the Federal Register on August 25, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before November 30, 2015.

ADDRESSES: Submit your comments, referencing Docket ID Number EPA-HQ-OAR-2012-0103, to (1) EPA online using www.regulations.gov (our preferred method), by email to a-and-r-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Tyler Cooley, Office of Transportation and Air Quality, (Mail Code: 6406A), Environmental Protection Agency, 1200 Pennsylvania Ave. NW., Washington, DC 20460; telephone number: 415-972-3937; fax number: 202-343-2803; email address: cooley.tyler@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The Diesel Emissions Reduction Act program (DERA) is authorized by Title VII, Subtitle G (Sections 791 to 797) of the Energy Policy Act of 2005 (Pub. L. 109-58), as amended by the Diesel Emissions Reduction Act of 2010 (Pub. L. 111-364), codified at 42 U.S.C. 16131 et seq. DERA provides the Environmental Protection Agency (EPA) with the authority to award grants, rebates or low-cost revolving loans on a competitive basis to eligible entities to fund the costs of projects that significantly reduce diesel emissions from mobile sources through implementation of a certified engine configuration, verified technology, or emerging technology. Eligible mobile sources include buses (including school buses), medium heavy-duty or heavy heavy-duty diesel trucks, marine engines, locomotives, or nonroad engines or diesel vehicles or equipment used in construction, handling of cargo (including at ports or airports), agriculture, mining, or energy production. In addition, eligible entities may also use funds awarded for programs or projects to reduce long-duration idling using verified technology involving a vehicle or equipment described above. The objective of the assistance under this program is to achieve significant reductions in diesel emissions in terms of tons of pollution produced and reductions in diesel emissions exposure, particularly from fleets operating in areas designated by the Administrator as poor air quality areas.

EPA uses approved procedures and forms to collect necessary information to operate its grant and rebate programs as authorized by Congress under the DERA program. EPA collects information from applicants to the DERA rebate program. Information collected is used to ensure eligibility of applicants and engines to receive funds under DERA, and to calculate estimated and actual emissions benefits that result from activities funded with rebates as required in DERA's authorizing legislation.

Form Numbers: 2060-0686.

Respondents/affected entities: Entities interested in applying for a rebate under EPA's Diesel Emission Reduction Act (DERA) Rebate Program and include but are not limited to the following NAICS (North American Industry Classification System) codes: 23 Construction; 482 Rail Transportation; 483 Water Transportation; 484 Truck Transportation; 485 Transit and Ground Passenger Transportation; 48831 Port and Harbor Operations; 61111 Elementary and Secondary Schools; 61131 Colleges, Universities, and Professional Schools; 9211 Executive, Legislative, and Other Government Support; and 9221 Justice, Public Order, and Safety Activities.

Respondent's obligation to respond: Voluntary.

Estimated number of respondents: 500-1,000 (total).

Frequency of response: Voluntary as needed.

Total estimated burden: 2,827 hours (per year). Burden is defined at 5 CFR 1320.03(b).

Total estimated cost: $100,592.58 (per year), includes $0 annualized capital or operation & maintenance costs.

Changes in the Estimates: There is an increase of 1,933 hours in the total estimated respondent burden compared with the ICR currently approved by OMB. This increase is due to a higher level of interest in the rebate program than originally anticipated. The revised burden of 2,827 hours reflects an updated estimate of 771 applicants (respondents) and is based on the number of applications submitted under previous rebate funding opportunities. In the ICR currently approved by OMB, EPA estimated an annual burden of 894 hours for 120 applicants. EPA received over 1,000 applications for the 2012 pilot program and over 500 applications for the 2014 funding opportunity.

Courtney Kerwin,
Acting Director, Collection Strategies Division.

[FR Doc. 2015-27691 Filed 10-29-15; 8:45 am]

BILLING CODE 6560-50-P